DEPARTMENT OF AGRICULTURE

Forest Service

Newspapers of Record for the Pacific Southwest Region: California

AGENCY: Forest Service, USDA.

ACTION: Notice.

SUMMARY: This notice lists the newspapers that will be used by all Ranger Districts, Forests, and the Regional Office of the Pacific Southwest Region to publish legal notices required under 36 CFR 214, 218, and 219. The intended effect of this action is to inform interested members of the public which newspapers the Forest Service will use to publish notices of proposed actions, notices of decision, and notices of opportunity to file an appeal/objection. This will provide the public with constructive notice of Forest Service proposals and decisions, provide information on the procedures to comment, appeal, or object and establish the date that the Forest Service will use to determine if comments, appeals, or objections were timely.

DATES: Publication of legal notices in the listed newspapers will begin on the date of this publication and remain in effect until another notice is published in the Federal Register.

FOR FURTHER INFORMATION CONTACT: Theresa Corless, Regional Appeals/Objections Coordinator, Forest Service, Pacific Southwest Regional Office, 1323 Club Drive, Vallejo, CA 94592, (707) 562-8768.

SUPPLEMENTARY INFORMATION: In addition to the primary newspaper listed for each unit, some Forest Supervisors and District Rangers have listed newspapers providing additional notice of their decisions. The timeframe for filing comment, appeal or an objection shall be based on the date of publication of the notice in the first (primary) newspaper listed for each unit.

The newspapers to be used are as follows:

Pacific Southwest Regional Office

Regional Forester Decisions:

Sacramento Bee, published daily in Sacramento, Sacramento County, California, for decisions affecting National Forest System lands and for any decision of Region-wide impact.

Angeles National Forest, California

Forest Supervisor Decisions:

Los Angeles Times, published daily in Los Angeles, Los Angeles County, California.

District Rangers Decisions:

Los Angeles Ranger District:

Daily News, published daily in Los Angeles, Los Angeles County, California.

Newspapers providing additional notice of Los Angeles District Ranger decisions:

Pasadena Star News, published in Pasadena, California; and Foothill Leader, published in Glendale, California.

San Gabriel River Ranger District:

Inland Valley Bulletin, published daily in Los Angeles, Los Angeles County, California.

Newspaper providing additional notice of San Gabriel River District Ranger decisions:

San Gabriel Valley Tribune published in the eastern San Gabriel Valley, West Covina, Los Angeles County, California.

Santa Clara/Mojave Rivers Ranger District:

Daily News, published daily in Los Angeles, Los Angeles County, California.

Newspapers providing additional notice of Santa Clara/Mojave Rivers District Ranger decisions:

Antelope Valley Press, published in Palmdale, Los Angeles County, California; and

Mountaineer Progress, published in Wrightwood, California.

Cleveland National Forest, California

Forest Supervisor Decisions:

San Diego Union-Tribune, published daily in San Diego, San Diego County, California.

District Rangers Decisions:

Descanso Ranger District:

San Diego Union-Tribune, published daily in San Diego, San Diego County, California.

Palomar Ranger District:

San Diego Union-Tribune, published daily in San Diego, San Diego County, California.

Newspaper providing additional notice of Palomar District Ranger decisions:

Riverside Press Enterprise, published daily in Riverside, Riverside County, California.

Trabuco Ranger District:

Riverside Press Enterprise, published daily in Riverside, Riverside County, California.

Newspaper providing additional notice of Trabuco District Ranger decisions:

Orange County Register, published daily in Santa Ana, Orange County, California.

Eldorado National Forest, California

Forest Supervisor Decisions:

Mountain Democrat published three-times weekly in Placerville, El Dorado County, California.

District Rangers Decisions:

Mountain Democrat published three-times weekly in Placerville, El Dorado County, California.

lnyo National Forest, California

Forest Supervisor Decisions:

Inyo Register published three-times weekly in Bishop, lnyo County, California.

District Rangers Decisions:

Inyo Register published three-times weekly in Bishop, lnyo County, California.

Klamath National Forest, California

Forest Supervisor Decisions:

Siskiyou Daily News, published daily in Yreka, Siskiyou County, California.

District Rangers Decisions:

Siskiyou Daily News, published daily in Yreka, Siskiyou County, California.

Lake Tahoe Basin Management Unit, California and Nevada

Forest Supervisor Decisions:

Tahoe Daily Tribune, published three-times weekly in South Lake Tahoe, El Dorado County, California.

Lassen National Forest, California

Forest Supervisor Decisions:

Lassen County Times, published weekly in Susanville, Lassen County, California.

District Rangers Decisions:

Eagle Lake Ranger District:

Lassen County Times, published weekly in Susanville, Lassen County, California.

Almanor Ranger District:

Chester Progressive, published weekly in Chester, Plumes County, California.

Hat Creek Ranger District:

Intermountain News, published weekly in Burney, Shasta County, California.

Los Padres National Forest, California

Forest Supervisor Decisions:

Santa Barbara News Press, published daily in Santa Barbara, Santa Barbara County, California.

District Rangers Decisions:

Monterey Ranger District:

Monterey County Herald, published daily in Monterey, Monterey County, California.

Santa Lucia Ranger District:

The Tribune, published daily in San Luis Obispo, San Luis Obispo County, California.

Santa Barbara Ranger District:

Santa Barbara News Press, published daily in Santa Barbara, Santa Barbara County, California.

Ojai Ranger District:

Ventura County Star, published daily in Ventura, Ventura County, California.

Mt. Pinos Ranger District:

The Mountain Enterprise, published weekly in Frazier Park, Kern County, California.

Mendocino National Forest, California

Forest Supervisor Decisions:

Chico Enterprise-Record, published daily in Chico, Butte County, California.

District Rangers Decisions:

Grindstone Ranger District:

Chico Enterprise-Record, published daily in Chico, Butte County, California.

Upper Lake and Covelo Districts:

Ukiah Daily Journal, published daily in Ukiah, Mendocino County, California.

Modoc National Forest, California

Forest Supervisor Decisions:

The Modoc County Record, published weekly in Alturas, Modoc County, California.

District Rangers Decisions:

All districts:

The Modoc County Record, published weekly in Alturas, Modoc County, California.

Doublehead and Big Valley Districts:

Klamath Falls Herald and News, published daily (except Mondays) in Klamath Falls, Klamath County, Oregon.

Plumas National Forest, California

Forest Supervisor Decisions:

Feather River Bulletin, published weekly in Quincy, Plumas County, California.

Newspaper providing additional notice for Environmental Impact Statements:

Sacramento Bee published daily in Sacramento, Sacramento County, California.

District Rangers Decisions:

Beckwourth Ranger District:

Portola Reporter, published weekly in Portola, Plumas County, California.

Newspaper occasionally providing additional notice of Beckwourth District Ranger decisions:

Feather River Bulletin, published weekly in Quincy, Plumas County California.

Feather River Ranger District:

Oroville Mercury Register, published daily in Oroville, Butte County, California.

Newspaper occasionally providing additional notice of Feather River District Ranger decisions:

Feather River Bulletin, published weekly in Quincy, Plumas County, California.

Mt. Hough Ranger District:

Feather River Bulletin, published weekly in Quincy, Plumas County, California.

Newspaper occasionally providing additional notice of Mt. Hough District Ranger decisions:

Portola Reporter, published weekly in Portola, Plumas County, California.

San Bernardino National Forest, California

Forest Supervisor Decisions:

San Bernardino Sun, published daily in San Bernardino, San Bernardino County, California.

District Rangers Decisions:

Mountaintop Ranger District—Arrowhead Area:

Mountain News, published weekly in Blue Jay, San Bernardino County, California.

Mountaintop Ranger District—Big Bear Area:

Big Bear Life and Grizzly, published weekly in Big Bear, San Bernardino County, California.

Front Country Ranger District:

San Bernardino Sun, published daily in San Bernardino, San Bernardino County, California.

San Jacinto Ranger District:

Idyllwild Town Crier, published weekly in Idyllwild, Riverside County, California.

Sequoia National Forest, California

Forest Supervisor Decisions:

Porterville Recorder, published daily (except Sunday) in Porterville, Tulare County, California.

District Rangers Decisions:

Porterville Recorder, published daily (except Sunday) in Porterville, Tulare County, California.

Shasta-Trinity National Forest, California

Forest Supervisor Decisions:

Record Searchlight, published daily in Redding, Shasta County, California.

District Rangers Decisions:

Record Searchlight, published daily in Redding, Shasta County, California.

Sierra National Forest, California

Forest Supervisor Decisions:

Fresno Bee, published daily in Fresno, Fresno County, California.

District Rangers Decisions:

Fresno Bee published daily in Fresno, Fresno County, California.

Six Rivers National Forest, California

Forest Supervisor Decisions:

Times Standard, published daily in Eureka, Humboldt County, California.

District Rangers Decisions:

Smith River National Recreation Area:

Del Norte Triplicate, published daily in Crescent City, Del Norte County, California.

Orleans and Lower Trinity Districts:

The Two Rivers Tribune, published weekly in Hoopa, Humboldt County, California.

Mad River District:

Times Standard, published daily in Eureka, Humboldt County, California.

Stanislaus National Forest, California

Forest Supervisor Decisions:

The Union Democrat, published daily (five-times weekly) in Sonora, Tuolumne County, California.

District Rangers Decisions:

The Union Democrat, published daily (five-times weekly) in Sonora, Tuolumne County, California.

Tahoe National Forest, California

Forest Supervisor Decisions:

The Union, published daily (except Sunday) in Grass Valley, Nevada County, California.

District Rangers Decisions:

American River Ranger District:

Auburn Journal, published daily in Auburn, Placer County, California.

Sierraville Ranger District:

Mountain Messenger, published weekly in Downieville, Sierra County, California.

Newspapers providing additional notice of Sierraville District Ranger decisions:

Sierra Booster, published weekly in Loyalton, Sierra County, California; and

Portola Recorder, published weekly in Portola, Plumas County, California.

Truckee Ranger District:

Sierra Sun, published five times weekly in Truckee, Nevada County, California.

Yuba River Ranger District:

The Union, published daily (except Sunday) in Grass Valley, Nevada County, California.

Newspaper providing additional notice of Yuba River District Ranger decisions:

Mountain Messenger, published weekly in Downieville, Sierra County, California.

Dated: July 13, 2015.
Barnie Gyant,
Deputy Regional Forester, Pacific Southwest Region.

[FR Doc. 2015-18112 Filed 7-23-15; 8:45 am]

BILLING CODE 3410-11-M